DEPARTMENT OF THE INTERIOR

Fish and Wildlife Service

Issuance of Permit for Marine Mammals

On March 6, 2001, a notice was published in the Federal Register, Vol. 66, No. 44, Page 13566, that an application had been filed with the Fish and Wildlife Service by Circo Hermanos Suarez S.A., San Juan, PR, for a permit (PRT-036843) to import for the purpose of public display seven polar bears (Ursus maritimus) obtain from captive and wild sources.

Notice is hereby given that on May 5, 2001, as authorized by the provisions of the Marine Mammal Protection Act of 1972, as amended (16 U.S.C. 1361 et seq.) the Fish and Wildlife Service authorized the requested permit subject to certain conditions set forth therein.

Documents and other information submitted for these applications are available for review by any party who submits a written request to the U.S. Fish and Wildlife Service, Division of Management Authority, 4401 North Fairfax Drive, Room 700, Arlington, Virginia 22203. Phone (703) 358-2104 or Fax (703) 358-2281.

Date: May 11, 2001.
Anna Barry,
Senior Permit Biologist, Branch of Permits, Division of Management Authority.

[FR Doc. 01-12830 Filed 5-21-01; 8:45 am]

BILLING CODE 4310-55-P